DEPARTMENT OF ENERGY

Federal Energy Regulatory Commission

[Docket No. MG01-20-000]

Egan Hub Partners, L.P.; Notice of Filing

February 20, 2001.

On February 12, 2001, Egan Hub Partners, L.P. filed revised standards of conduct under Order No. 637.¹

¹ Regulation of Short-Term Natural Gas Transportation Services, and Regulation of Interstate Natural Gas Transportation Services, Order No. 637, 65 Fed. Reg. 10156 (February 25, 2000), III FERC Stats. & Regs. ¶ 31,091 (February 9, 2000), Order No. 637-A, 65 Fed. Reg. 35705 (June 5, 2000), III FERC Stats. & Regs. ¶ 21,099 (May 19, 2000), Order No. 637-B, 92 FERC ¶ 61,062 (2000).

Egan Hub Partners, L.P. states that it served copies of the filing on all customers and interested state commissions.

Any person desiring to be heard or to protest said filing should file a motion to intervene or protest in this proceeding with the Federal Energy Regulatory Commission, 888 First Street, NE., Washington, DC, 20426, in accordance with Rules 211 or 214 of the Commission's Rules of Practice and Procedure (18 CFR 385.211 or 385.214). All such motions to intervene or protest should be filed on or before March 7, 2001. Protests will be considered by the Commission in determining the appropriate action to be taken but will not serve to make protestants parties to the proceeding. Any person wishing to become a party must file a motion to intervene. Copies of these filings are on file with the Commission and are available for public inspection. This filing may be viewed on the web at http://www.ferc.fed.us/online/rims.htm (call 202-208-2222 for assistance).

Comments and protests may be filed electronically via the internet in lieu of paper. See, 18 CFR 385.2001(a)(1)(iii) and the instructions on the Commission's web site at http://www.ferc.fed.us/efi/doorbell.htm.

David P. Boergers,
Secretary.

[FR Doc. 01-4577 Filed 2-23-01; 8:45 am]

BILLING CODE 6717-01-M